DEPARTMENT OF THE INTERIOR

Office of the Secretary

[15XD4523WS DS67011100 DWSNN0000.XB0000 DP6EG02]

Notice of Emergency Information Collection and Request for Comments: OMB Control Number 1093-0006, Volunteer Partnership Management

AGENCY: Office of the Secretary, Interior.

ACTION: Notice and request for comments.

SUMMARY: In compliance with the Paperwork Reduction Act of 1995, the Office of the Secretary, Department of the Interior announces an emergency information collection and seeks public comments on the provisions thereof.

DATES: Consideration will be given to all comments received by April 13, 2015.

ADDRESSES: Send your written comments to Marta Kelly, Office of the Secretary, U.S. Department of the Interior, 1849 C Street NW., MS 7228-MIB, Washington, DC 20240, fax 202-208-7239, or by email to Marta_Kelly@nps.gov. Please mention that your comments concern the Volunteer Partnership Management program, OMB Control Number 1093-0006.

FOR FURTHER INFORMATION CONTACT: To request a copy of the information collection request, any explanatory information and related forms, see the contact information provided in the ADDRESSES section above.

SUPPLEMENTARY INFORMATION:

I. Abstract

This information collection received emergency approval from OMB on December 16, 2014. This approval is good for six months and we are now requesting comments as part of the standard review process.

The Office of Management and Budget (OMB) regulations at 5 CFR part 1320, which implement the Paperwork Reduction Act of 1995, 44 U.S.C. 3501 et seq., require that interested members of the public and affected agencies have an opportunity to comment on information collection and recordkeeping activities (see 5 CFR 1320.8(d)).

Federal land management agencies are authorized to work with volunteers, youth programs, and partner organizations to plan, develop, maintain, and manage projects and service activities on public lands and adjacent projects throughout the nation. Agencies and partners may recruit, train, and accept the services of volunteers, youth programs, and partners to aid in interpretive functions, visitor services, conservation measures and development, research and development, recreation, and or other activities in nearly all areas of service. Volunteers, youth programs, and partners can be an efficient, effective, and cost-beneficial use of public resources. The participants of these efforts, especially youth, benefit from skill development and service learning that enhances their capacity to find meaningful employment opportunities and be stewards for public lands.

In order to effectively engage hundreds of thousands of volunteers, youth participants, and partners in meaningful service activities at multiple locations, participating agencies and non-Federal organizations, we must collect information from youth program participants and volunteers who are interested in participating, supporting, and managing programs on public lands. The information collected from individuals includes contact information, demographic data including ethnicity and veterans and disability status. Information from partner organizations includes agreement, costs incurred, contact information, IRS status, public financial reports, and supporting documentation such as project completion reports, pictures, and hours contributed.

The information will be collected through a web based platform that consists of five modules including: The National Park Service (NPS) Volunteer-In-Parks (VIP) Reporting Module, Youth Partner Tracking Module, Outreach Recruitment Resume Module, Partnerships Module, and the Cooperating Association Module. The NPS Volunteer-In-Parks (VIP) Reporting Module allows partners to provide information on the annual volunteer efforts they manage independently on behalf of the Federal agencies in communities and Federal lands through assistance programs. The Youth Partner Tracking module will collect data from individuals between the ages of 16 and 35 which is considered the eligibility age for youth programs under the 16 U.S.C. 1722 et seq., Public Lands Corps (PLC) Act and Interior Departmental Secretarial Order 3332. The Outreach-Recruitment Resume Module will collect data provided by citizens, including veterans and youth, seeking employment opportunities at career fairs, outreach events, military programs, and from Public Land Corps participants. The Partnerships Module collects information from various volunteer organizations which are under national agreements to manage services and programs on public lands for citizens and provides an annual summary of their activities. The Cooperating Association Module collects information from not-for-profit public lands partners under national agreements to manage bookstores and sales items with Federal agencies.

This request for comments on the information collection is being published by the Office of the Secretary, Department of the Interior and includes the use of common forms that can be leveraged by other Federal Agencies. The burden estimates reflected in this notice is only for the Department of the Interior. Other Federal Agencies wishing to use the common forms must submit their own burden estimates and provide notice to the public accordingly.

II. Data

(1) Title: Volunteer Partnership Management.

OMB Control Number: 1093-0006.

Current Expiration Date: June 30, 2015.

Type of Review: New Information Collection.

Affected Entities: Potential and selected volunteers; youth program participants, veterans, prospective job applicants, cooperating associations, and partner organizations.

Estimated annual number of respondents: 28,433

Frequency of responses: Typically once per year but could be as frequently as 26 times per year for time and expense reporting.

(2) Annual reporting and recordkeeping burden:

Total annual reporting per response: 5-60 minutes depending on the function being performed.

Total number of estimated responses: 837,398.

Total annual reporting: 70,770 hours.

(3) Description of the need and use of the information: Participating natural and cultural resource agencies will use this information to manage agency volunteer, youth, outreach, recruitment and partner programs that support work on public lands. The Federal agencies will be more accountable to taxpayer by providing annual reports and program description of partnership activities which will be accessible on-line. Also, collecting youth program hours and demographic information will allow Federal agencies to provide better customer service to youth participants who have earned Public Lands Corps (PLC) credit for time served with the PLC, which may be used towards future Federal hiring; and provide former members of the PLC noncompetitive hiring status for a period of not more than 120 days after completion of PLC service.

III. Request for Comments

The Departments invite comments on:

(a) Whether the collection of information is necessary for the proper performance of the functions of the agencies, including whether the information will have practical utility;

(b) The accuracy of the agencies' estimate of the burden of the collection of information and the validity of the methodology and assumptions used;

(c) Ways to enhance the quality, utility, and clarity of the information to be collected; and

(d) Ways to minimize the burden of the collection of information on respondents, including through the use of appropriate automated, electronic, mechanical, or other collection techniques or other forms of information technology.

“Burden” means the total time, effort, and financial resources expended by persons to generate, maintain, retain, disclose, or provide information to or for a Federal agency. This includes the time needed to review instructions; to develop, acquire, install, and use technology and systems for the purposes of collecting, validating, and verifying information, processing and maintaining information, and disclosing and providing information; to train personnel and to be able to respond to a collection of information, to search data sources, and to complete and review the collection of information; and to transmit or otherwise disclose the information.

All written comments, with names and addresses, will be available for public inspection. If you wish us to withhold your personal information, you must prominently state at the beginning of your comment what personal information you want us to withhold. We will honor your request to the extent allowable by law. If you wish to view any comments received, you may do so by scheduling an appointment with the Office of the Secretary by calling 202-208-7239. Valid picture identification is required for entry into the Department of the Interior.

Comments submitted in response to this notice will be summarized and/or included in the request for OMB approval of this information collection; they also will become a matter of public record.

An agency may not conduct or sponsor, and a person is not required to respond to, a collection of information unless it displays a currently valid Office of Management and Budget control number.

Dated: February 4, 2015.
Mary Pletcher,
Deputy Assistant Secretary for Human Capital and Diversity, Office of the Secretary.

[FR Doc. 2015-02781 Filed 2-10-15; 8:45 am]

BILLING CODE 4334-12-P